ENVIRONMENTAL PROTECTION AGENCY

40 CFR Part 82

[FRL-7477-7]

RIN 2060-AG12

Protection of Stratospheric Ozone: Listing of Substitutes for Ozone-Depleting Substances; Correction

AGENCY: Environmental Protection Agency.

ACTION: Direct final rule; correction.

SUMMARY: The Environmental Protection Agency published in the Federal Register of January 27, 2003, a direct final rule related to the Significant New Alternatives Policy (SNAP) program. Additional, new information was recently made available to EPA related to the calculation of the environmental impact of a fire suppression substitute that was listed as an acceptable substitute in the direct final rule. Based on this new information, EPA is correcting the atmospheric lifetime and global warming potential (GWP) listed for the substitute fire suppression agent. This correction does not change EPA's finding of acceptability, as set forth in the rule, for use of the substitute in fire protection. This document identifies and makes the above correction.

DATES: This correction is effective on April 7, 2003.

ADDRESSES: Information relevant to this correction is contained in Air Docket A-2002-08, 1301 Constitution Avenue, NW.; U.S. Environmental Protection Agency, Mail Code 6102T; Washington, DC, 20460. The docket reading room is located at the address above in room B102 in the basement. Reading room telephone: (202) 566-1744, facsimile: (202) 566-1749; Air docket staff telephone: (202) 566-1742, facsimile: (202) 566-1741. You may inspect the docket between 8:30 a.m. and 4:30 p.m. weekdays. As provided in 40 CFR part 2, a reasonable fee may be charged for photocopying.

FOR FURTHER INFORMATION CONTACT: Bella Maranion by telephone at (202) 564-9479, by fax at (202) 565-2155, by e-mail at maranion.bella@epa.gov, or by mail at U.S. Environmental Protection Agency, Mail Code 6205J, Washington, DC 20460. Overnight or courier deliveries should be sent to the office location at 501 3rd Street, N.W., Washington, D.C., 20001. Further information can be found by calling the Stratospheric Protection Hotline at (800) 296-1996, or by viewing EPA's Ozone Depletion World Wide Web site at http://www.epa.gov/ozone/title6/snap/.

SUPPLEMENTARY INFORMATION: The Environmental Protection Agency published in the Federal Register of January 27, 2003, a direct final rule (68 FR 4004) related to the Significant New Alternatives Policy (SNAP) program. After publication of FR Doc. 03-1623 on January 27, 2003, additional, new information was recently made available to EPA and provided updated information related to the calculation of the environmental impact of a fire suppression substitute that was listed as an acceptable substitute in the direct final rule. Based on this new information, EPA is correcting the atmospheric lifetime and global warming potential (GWP) listed for C6-perfluoroketone, a substitute fire suppression agent. EPA's evaluation of this new information is available in EPA air docket A-2002-08 at the address described above under ADDRESSES. This correction does not change EPA's finding of acceptability, subject to use conditions, of this substitute for use in fire protection.

In FR Doc.03-1623, published on January 27, 2003 (68 FR 4004), under “Supplementary Information”, section II, “ Listing of Substitutes”, make the following corrections:

1. On page 4006 in the second full paragraph of the third column, correct the fourth sentence to read, “C6-perfluoroketone has no ozone-depletion potential, a global warming potential of between four and seven compared to CO2 on a 100-year time horizon, and an atmospheric lifetime of up to two weeks.”

2. On page 4006 in the third full paragraph of the third column, correct the second sentence to read “With no ozone-depletion potential, a global warming potential of between four and seven, and an atmospheric lifetime of up to two weeks, C6-perfluoroketone provides an improvement over use of halon 1211, hydrochlorofluorocarbons (HCFCs), and hydrofluorocarbons (HFCs) in fire protection.”

Administrative Requirements

Section 553 of the Administrative Procedure Act, 5 U.S.C. 553(b)(B), provides that, when an agency for good cause finds that notice and public procedure are impracticable, unnecessary or contrary to the public interest, the agency may issue a rule without providing notice and an opportunity for public comment. We have determined that there is good cause for making today's rule final without prior proposal and opportunity for comment because we are merely correcting an incorrect citation in a previous action. Thus, notice and public procedure are unnecessary. We find that this constitutes good cause under 5 U.S.C. 553(b)(B).

Under Executive Order 12866 (58 FR 51735, October 4, 1993), this correction is not a “significant regulatory action” and is therefore not subject to review by the Office of Management and Budget (OMB). Because the EPA has made a “good cause” finding that this correction is not subject to notice and comment requirements under the Administrative Procedure Act or any other statute, it is not subject to the regulatory flexibility provisions of the Regulatory Flexibility Act (5 U.S.C. 601 et seq.), or to sections 202 and 205 of the Unfunded Mandates Reform Act of 1995 (UMRA) (Public Law 104-4). In addition, this correction does not significantly or uniquely affect small governments or impose a significant intergovernmental mandate, as described in sections 203 and 204 of the UMRA. This correction also does not significantly or uniquely affect the communities of tribal governments, as specified by Executive Order 13175 (65 FR 67249, November 6, 2000). This correction does not have substantial direct effects on the States, or on the relationship between the national government and the States, as specified in Executive Order 13132 (64 FR 43255, August 10, 1999). This correction also is not subject to Executive Order 13045 (62 FR 19885, April 23, 1997) because it is not economically significant. This rule is not a “significant energy action” as defined in Executive Order 13211, Actions Concerning Regulations That Significantly Affect Energy Supply, Distribution, or Use (66 FR 28355 (May 22, 2001) because it is not likely to have a significant adverse effect on the supply, distribution, or use of energy.

This correction does not involve technical standards; thus, the requirements of section 12(d) of the National Technology Transfer and Advancement Act (NTTAA) of 1995 (15 U.S.C. 272) do not apply. This correction also does not involve special consideration of environmental justice related issues as required by Executive Order 12898 (59 FR 7629, February 16, 1994). This correction does not impose an information collection burden under the provisions of the Paperwork Reduction Act of 1995 (44 U.S.C. 3501 et seq.). The EPA's compliance with these statutes and Executive Orders for the underlying rule is discussed in the rule for the Listing of Substitutes for Ozone-Depleting Substances; Final Rule and Proposed Rule.

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the Congressional Review Act if the agency makes a good cause finding that notice and public procedure is impracticable, unnecessary, or contrary to the public interest. This determination must be supported by a brief statement (5 U.S.C. 808(2)). As stated previously, the EPA has made such a good cause finding, including the reasons therefore, and established an effective date of April 7, 2003. The EPA will submit a report containing this rule and other required information to the U.S. Senate, the U.S. House of Representatives, and the Comptroller General of the United States prior to publication of the correction in the Federal Register. This correction is not a “major rule” as defined by 5 U.S.C. 804(2).

List of Subjects in 40 CFR Part 82

Environmental protection, Administrative practice and procedure, Air pollution control, Reporting and recordkeeping requirements.

Dated: March 25, 2003.
Drusilla Hufford,
Director, Global Programs Division.

[FR Doc. 03-8365 Filed 4-4-03; 8:45 am]

BILLING CODE 6560-50-P